Title 3—

The President

Memorandum of November 2, 2005

Assignment of Certain Reporting Functions

Memorandum for the Secretary of State

By the authority vested in me as President by the Constitution and laws of the United States, including section 301 of title 3, United States Code, I hereby assign to you the functions of the President contained within section 1205 of the National Defense Authorization Act for Fiscal Year 2003 (Public Law 107-314) to provide the specified report to the Congress.

You are authorized and directed to publish this memorandum in the Federal Register.

B

THE WHITE HOUSE,

Washington, November 2, 2005.

[FR Doc. 05-23539

Filed 11-29-05; 8:45 am]

Billing code 4710-10-P